DEPARTMENT OF VETERANS AFFAIRS

[OMB Control No. 2900-0222]

Agency Information Collection Activity: Proposed Collection; Comment Request

AGENCY: National Cemetery Administration, Department of Veterans Affairs.

ACTION: Notice.

SUMMARY: In compliance with the Paperwork Reduction Act (PRA) of 1995, (44 U.S.C. 3501-21), this notice announces that the National Cemetery Administration (NCA), Department of Veterans Affairs, has submitted the collection of information abstracted below to the Office of Management and Budget (OMB) for review and comment. The PRA submission describes the nature of the information collection and its expected cost and burden and includes the actual data collection instrument.

DATES: Comments must be submitted on or before May 17, 2004.

FOR FURTHER INFORMATION CONTACT: Denise McLamb, Records Management Service (005E3), Department of Veterans Affairs, 810 Vermont Avenue, NW., Washington, DC 20420, (202) 273-8030 or Fax (202) 273-5981, or e-mail: denise.mclamb@mail.va.gov. Please refer to “OMB Control No. 2900-0222” in any correspondence.

Send comments and recommendations concerning any aspect of the information collection to VA's OMB Desk Officer, OMB Human Resources and Housing Branch, New Executive Office Building, Room 10235, Washington, DC 20503, (202) 395-7316. Please refer to “OMB Control No. 2900-0222” in any correspondence.

SUPPLEMENTARY INFORMATION:

Title: Application for Standard Government Headstone or Marker for Installation in a Private or State Veterans' Cemetery, VA Form 40-1330.

OMB Control Number: 2900-0222.

Type of Review: Extension of a currently approved collection.

Abstract: The form is used by the next of kin or other responsible parties to apply for Government-provided headstones or markers for unmarked graves of eligible veterans. The information is used by VA to determine the veteran's eligibility for, and entitlement to this benefit.

An agency may not conduct or sponsor, and a person is not required to respond to a collection of information unless it displays a currently valid OMB control number. The Federal Register Notice with a 60-day comment period soliciting comments on this collection of information was published on January 23, 2004 at page 3431.

Affected Public: Individuals or households.

Estimated Annual Burden: 83,500 hours.

Estimated Average Burden Per Respondent: 15 minutes.

Frequency of Response: On occasion.

Estimated Number of Respondents: 334,000.

Dated: April 6, 2004.
By direction of the Secretary.
Loise Russell,
Director, Records Management Service.

[FR Doc. 04-8655 Filed 4-15-04; 8:45 am]

BILLING CODE 8320-01-P